DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Family Treatment Drug Court Evaluation—New—The Substance Abuse and Mental Health Administration's (SAMHSA) Center for Substance Abuse Treatment (CSAT) will conduct an evaluation of Family Treatment Drug Courts. The Family Treatment Drug Court Evaluation will examine the effectiveness of family treatment drug courts in four settings: Suffolk County, New York; Washoe County, Nevada; San Diego County, California; and Santa Clara County, California. The study will employ a multi-method, quasi-experimental research design to investigate several key child welfare outcomes for family treatment drug courts as compared to traditional case processing, including whether the time to permanency for children is different in a family treatment drug court program than in traditional case processing.

In addition, the study will investigate rates of reunification and termination of parental rights; types, frequency, and length of out-of-home placements; and child welfare recidivism. The study will investigate the key mediators of program success, including the effect of family treatment drug courts on treatment access, treatment completion, parent motivation, and family well-being, among other key mediators.

The project consists of an outcome evaluation that includes administrative data collection and client interviews with a sample of treatment and comparison participants. The target population for the family treatment drug court consists of substance abusing parents who have a current child abuse or neglect case. The outcome evaluation will document whether family treatment drug courts are more effective than traditional court settings in decreasing the time needed to reach permanent placements for children; increasing the frequency of successful parent-child reunifications and decreasing the frequency of terminations of parental rights; decreasing the time children spend in foster care; and reducing child welfare recidivism. [P]

An intent-to-treat sampling model will be used for the treatment groups at each site during a 2.5-year recruitment window. The expected number of treatment group subjects varies by site based on program capacity, as illustrated in the table below. Comparison groups will be recruited in three of the four sites, with equal numbers of comparison group participants at each site; no comparison group will be used in San Diego because that county has implemented a system-wide reform. Interview data will be sought from all persons included in the administrative datasets.

Interview participants will take part in a baseline interview within one month of their dispositional hearing and three follow-up interviews. Follow-up One will take place six months later, Follow-Up Two will take place 12 months after baseline, and Follow-Up Three will take place 24 months after baseline. The interview tool will assess participants' perceptions of the services they are receiving and their interactions with the court, treatment, and child welfare systems; their understanding of what they need to do in order to be reunified with their children; and their feelings of empowerment and control over the process. Each interview will last approximately one hour. Administrative data, including child welfare and treatment data, will be collected annually to ascertain the type, frequency, and timeliness of services received and to capture the crucial child welfare outcomes of interest, including the timing and type of permanency plans for children, the length of time children spend in foster care, and subsequent involvement in the child welfare system.

The project is scheduled over a four-year time period. Therefore, the estimates in the table below are annualized based on planned activities for the entire four years.

| No. of respondents | Responses/respondent | Hours/response | Total burden hrs.
Client Interviews | 1,295 | 4 | 1.0 | 5,180
Tracking telephone calls | 1,295 | 3 | 0.17 | 220
Total | 1,295 |  |  | 5,400
4-yr. Annual Average | 1,295 |  |  | 1,350

Send comments to Nancy Pearce, SAMHSA Reports Clearance Officer, Room 16-105, Parklawn Building, 5600 Fishers Lane, Rockville, MD 20857. Written comments should be received within 60 days of this notice.

Dated: January 23, 2003.
Richard Kopanda,
Executive Officer, Substance Abuse and Mental Health Services Administration.

[FR Doc. 03-1998 Filed 1-28-03; 8:45 am]

BILLING CODE 4162-20-P